DEPARTMENT OF JUSTICE

National Institute of Justice

[OJP (NIJ)-1275]

Announcement of the Availability of the National Institute of Justice Solicitation for Communications Interoperability and Information Sharing Technologies (AGILE R&D)

AGENCY: Office of Justice Programs, National Institute of Justice, Justice.

ACTION: Notice of solicitation.

SUMMARY: Announcement of the availability of the National Institute of Justice “Communications Interoperability and Information Sharing Technologies (AGILE R&D).”

DATES: Proposals must be received by close of business June 27, 2000.

ADDRESSES: National Institute of Justice, 810 Seventh Street, NW, Washington, DC 20531.

FOR FURTHER INFORMATION CONTACT: For a copy of the solicitation, please call NCJRS 1-800-851-3420. For general information about application procedures for solicitations, please call the U.S. Department of Justice Response Center 1-800-421-6770.

SUPPLEMENTARY INFORMATION:

Authority

This action is authorized under the Omnibus Crime Control and Safe Streets Act of 1968, sections 201-03, as amended, 42 U.S.C. 3721-23 (1994).

Background

NIJ's Advanced Generation of Interoperability for Law Enforcement (AGILE) is a comprehensive program that addresses the need for improved public safety communications and information sharing. The AGILE program has three main components: (1) The research, development, test, and evaluation of interoperable communications and information sharing technologies; (2) the identification, development, and adoption of open architecture standards for interoperability; and (3) interoperability education and outreach.

This solicitation seeks proposals that offer the development of communications interoperability and information sharing technologies that address specific gaps in today's regional communications needs of public safety agencies.

This solicitation is NOT intended for the procurement or deployment of commercial off-the-shelf (COTS) applications. Any such proposal received by NIJ will not be considered for award.

NIJ anticipates supporting one or two cooperative agreements totaling $450,000 in FY 2000 under this NIJ solicitation. Additional incremental funding may be available in FY 2001.

This solicitation is funded through the Crime Identification Act (CITA) appropriation. Additional information about CITA programs can be found on the Internet at http://www.ojp.usdoj.gov/cita.

Interested organizations should call the National Criminal Justice Reference Service (NCJRS) at 1-800-851-3420 to obtain a copy of “Communications Interoperability and Information Sharing Technologies (AGILE R&D)” (refer to document no. SL000423). For World Wide Web access, connect to either NIJ at http://www.ojp.usdoj.gov/nij/funding.htm, or the NCJRS Justice Information Center at http://www.ncjrs.org/fedgrant.htm#nij.

Dated: May 30, 2000.
Julie E. Samuels,
Acting Director, National Institute of Justice.

[FR Doc. 00-14094 Filed 6-5-00; 8:45 am]

BILLING CODE 4410-18-P